DEPARTMENT OF TRANSPORTATION

Surface Transportation Board

[STB Finance Docket No. 34955]

Buffalo & Pittsburgh Railroad, Inc.—Lease and Operation Exemption—Norfolk Southern Railway Company and CSX Transportation, Inc.

AGENCY: Surface Transportation Board, DOT.

ACTION: Notice of Exemption.

SUMMARY: Under 49 U.S.C. 10502, the Board is granting a petition for exemption from the prior approval requirements of 49 U.S.C. 11323-24 to enable Buffalo & Pittsburgh Railroad, Inc., a Class II rail carrier, to acquire from Norfolk Southern Railway Company (NSR), by assignment, NSR's lease of approximately 24.6 miles of a line of railroad that is owned by CSX Transportation, Inc. (CSXT). The line extends from milepost BKC 2.0 near Cloe, PA, to milepost BKC 26.6 at Ridge Branch Junction near Creekside, PA. The exemption is subject to employee protective conditions.

DATES: The exemption will be effective on October 8, 2007. Petitions to stay must be filed by October 3, 2007, and petitions to reopen must be filed by October 18, 2007.

ADDRESSES: An original and 10 copies of all pleadings, referring to STB Finance Docket No. 34955, must be filed with the Surface Transportation Board, 395 E Street, SW., Washington, DC 20423-0001. In addition, one copy of all pleadings must be served on petitioner's representative: Eric M. Hocky, Gollatz, Griffin & Ewing, P.C., Four Penn Center, Suite 200, 1600 John F. Kennedy Blvd., Philadelphia, PA 19103-2808.

FOR FURTHER INFORMATION CONTACT: Joseph H. Dettmar, (202) 245-0395. [Assistance for the hearing impaired is available through the Federal Information Relay Service (FIRS) at 1-800-877-8339.]

SUPPLEMENTARY INFORMATION: Additional information is contained in the Board's decision. To purchase a copy of the full decision, write to, e-mail, or call: ASAP Document Solutions, 9332 Annapolis Rd., Suite 103, Lanham, MD 20706; e-mail asapdc@verizon.net; telephone: (202) 306-4004. [Assistance for the hearing impaired is available through FIRS at 1-800-877-8339.]

Board decisions and notices are available on our Web site at http://www.stb.dot.gov.

Decided: September 20, 2007.
By the Board, Chairman Nottingham, Vice Chairman Buttrey, and Commissioner Mulvey.
Vernon A. Williams,
Secretary.

[FR Doc. E7-19121 Filed 9-27-07; 8:45 am]

BILLING CODE 4915-01-P